DEPARTMENT OF EDUCATION

National Advisory Committee on Institutional Quality and Integrity; Notice of Committee Membership

AGENCY: Department of Education, National Advisory Committee on Institutional Quality and Integrity.

What is the purpose of this notice?

The purpose of this notice is to list the members of the National Advisory Committee on Institutional Quality and Integrity (NACIQI) and to give the public the opportunity to nominate candidate(s) for the positions to be vacated by those members appointed by the Secretary of Education, whose terms will expire on September 30, 2013. This notice is required under Section 114(e) of the Higher Education Act (HEA) of 1965, 20 U.S.C. 1011c(e).

What is the role of the committee?

The Committee was established under Section 114 of the HEA, and is composed of eighteen members, of which:

• Six members are appointed by the Secretary of Education;

• Six members are appointed by the Speaker of the U.S. House of Representatives, three of whom are appointed on the recommendation of the majority leader of the U.S. House of Representatives and three of whom are appointed on the recommendation of the minority leader of the U.S. House of Representatives; and

• Six members are appointed by the President Pro Tempore of the U.S. Senate, three of whom are appointed on the recommendation of the majority leader of the U.S. Senate and three of whom are appointed on the recommendation of the minority leader of the U.S. Senate.

The members are chosen from among individuals who are representatives of, or knowledgeable concerning, education and training beyond secondary education, representing all sectors and types of institutions of higher education (as defined in HEA Section 102, 20 U.S.C. 1002); and on the basis of the individual's experience, integrity, impartiality, good judgment; and technical qualifications, professional standing, and demonstrated knowledge in the fields of accreditation and administration in higher education.

The Committee meets at least twice a year to advise the Secretary with respect to:

• The establishment and enforcement of the standards of accrediting agencies or associations under Subpart 2 of Part H of Title IV, HEA.

• The recognition of a specific accrediting agency or association.

• The preparation and publication of the list of nationally recognized accrediting agencies and associations.

• The eligibility and certification process for institutions of higher education under Title IV, HEA, together with recommendations for improvements in such process.

• The relationship between accreditation of institutions of higher education and the certification and eligibility of such institutions, and the State licensing responsibilities with respect to such institutions.

• The Committee also carries out any other advisory functions relating to accreditation and institutional eligibility as the Secretary may prescribe by regulation.

What are the terms of office for committee members?

The term of office of each member of the Committee shall be for six years, except for vacancies and the terms of office for initial members. Any member appointed to fill a vacancy occurring prior to the expiration of the term for which the member's predecessor was appointed shall be appointed for the remainder of such term.

The terms of office for the initial members of the Committee are:

• Three years for members appointed by the Secretary;

• Four years for members appointed by the Speaker of the U.S. House of Representatives; and

• Six years for members appointed by the President Pro Tempore of the U.S. Senate.

Who are the current members of the committee?

The current members of the National Advisory Committee are:

Members Appointed by the U.S. Secretary of Education (Terms Expire 9/30/13)

• Dr. Earl Lewis, President, Andrew W. Mellon Foundation

• Dr. Susan D. Phillips, Provost and Vice President for Academic Affairs, University at Albany, State University of New York

• Beter-Aron Shimeles (student member), Operations Coordinator, Peer Health Exchange NYC

• Jamienne S. Studley (Chair), J.D., President and CEO, Public Advocates, Inc.

• Frank H. Wu, J.D., Chancellor and Dean, UC Hastings College of Law

• Dr. Federico Zaragoza, Vice Chancellor of Economic and Workforce Development, Alamo Colleges

Members Appointed by the U.S. House of Representatives (Terms Expire 9/30/14)

• Dr. George T. French, President, Miles College

• Dr. Arthur E. Keiser, Chancellor, Keiser University

• Dr. William (Brit) E. Kirwan, Chancellor, University System of Maryland

• Dr. William Pepicello, President, University of Phoenix

• Arthur J. Rothkopf (Vice Chair), J.D., President Emeritus, Lafayette College

• Dr. Carolyn Williams, President Emeritus, Bronx Community College/CUNY

Members Appointed by the U.S. Senate (Terms Expire 9/30/16)

• William L. Armstrong, President, Colorado Christian University

• Dr. Jill Derby, Governance Consultant, Association of Governing Boards of Colleges and Universities

• Anne D. Neal, J.D., President, American Council of Trustees and Alumni

• Richard F. O'Donnell, Chief Revenue Officer, The Fullbridge Program

• Cameron C. Staples, J.D., President and CEO, New England Association of Schools and Colleges, Inc

• Dr. Larry N. Vanderhoef, Chancellor Emeritus, University of California, Davis

How do I nominate an individual for a secretarial appointment to serve on NACIQI?

If you would like to nominate an individual for a Secretarial appointment to the Committee, email the following information to the Office of the Secretary, White House Liaison Office:

• A copy of the nominee's resume; and

• a cover letter that provides your reason(s) for nominating the individual and includes contact information for the nominee (name, title, business address, and business phone, fax number and email address).

The information/nomination packet must be emailed no later than Friday, August 2, 2013. Address the cover letter as follows: Honorable Arne Duncan, Secretary of Education, U.S. Department of Education, 400 Maryland Avenue SW., Washington, DC 20202. Email the entire nomination packet to whitehouseliaison@ed.gov with the subject line: Nomination-NACIQI.

How can I get additional information?

If you have any specific questions about the nomination process, please contact the Office of the Secretary, White House Liaison Office, at 202-401-3677, or for general questions about the National Advisory Committee on Institutional Quality and Integrity (NACIQI), please contact Ms. Carol Griffiths, the Committee's Executive Director, telephone: (202) 219-7035, fax: (202) 502-7874, email: Carol.Griffiths@ed.gov between the hours of 9:00 a.m. and 5:00 p.m., Monday through Friday, Eastern Standard Time.

Authority: 20 U.S.C. 1011c.

Arne Duncan,
Secretary of Education, U.S. Department of Education.

[FR Doc. 2013-16790 Filed 7-11-13; 8:45 am]

BILLING CODE 4000-01-P